DEPARTMENT OF STATE

[Public Notice 9722]

E.O. 13224 Designation of Fathi Ahmad Mohammad Hammad, aka Fathi Ahmad Hammad, aka Fathy Ahmed Hamad, aka Fathi Hamad as a Specially Designated Global Terrorist

Acting under the authority of and in accordance with section 1(b) of Executive Order 13224 of September 23, 2001, as amended by Executive Order 13268 of July 2, 2002, and Executive Order 13284 of January 23, 2003, I hereby determine that the individual known as Fathi Ahmad Mohammad Hammad, also known as Fathi Ahmad Hammad, also known as Fathy Ahmed Hamad, also known as Fathi Hamad, committed or poses a significant risk of committing, acts of terrorism that threaten the security of U.S. nationals or the national security, foreign policy, or economy of the United States.

Consistent with the determination in section 10 of Executive Order 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Dated: August 12, 2016.
John F. Kerry,
Secretary of State.

[FR Doc. 2016-22497 Filed 9-16-16; 8:45 am]

BILLING CODE 4710-AD-P